OFFICE OF PERSONNEL MANAGEMENT

Submission for OMB Emergency Clearance and 60 Day Notice for Comment for a Reinstatement, With Change, of a Previously Approved Collection: OPM Form 1300, Presidential Management Fellows Program Online Application and Resume Builder

AGENCY: Office of Personnel Management (OPM).

ACTION: Notice.

SUMMARY: In accordance with the Paperwork Reduction Act of 1995 (Pub. L. 104-13, May 22, 1995), this notice announces that the Office of Personnel Management (OPM) submitted a request to the Office of Management and Budget (OMB) for emergency clearance and review for a reinstatement, with change, of a previously approved collection for the OPM Form 1300, Presidential Management Fellows (PMF) Program Online Application and Resume Builder. Approval of the PMF Online Application and Resume Builder is necessary to facilitate the timely registration, nomination, selection, and placement of PMF finalists in Federal agencies. This also serves as the 60 Day Notice for review for full clearance.

As a result of Executive Order 13318, the OPM issued a final rule on May 19, 2005 (FR, Vol. 70, No. 96, Page 28775) implementing new program regulations effective June 20, 2005. Consistent with these new regulations, the following significant changes have been made to the application and nomination process: (1) The programmatic guidance in the Program and Application Overview, found under the PMF Web site's “How to Apply” section, was rewritten to reflect myriad changes resulting from the new regulations; (2) the nomination process was modified to clarify that eligible graduate students are to be nominated by their school's Dean, Chairperson, or Academic Program Director (i.e. a nominating official), and not by a designee or nomination coordinator; and (3) the dates and times were revised from last year to reflect the current academic year of 2005/2006.

We estimate 3,500 to 4,000 applications will be received and processed in the 2005/2006 open season for PMF applications. During the 2004/2005 open season OPM received approximately 3,321 applications, leading to 3,073 nominations by colleges and universities. We estimate students will need 2 hours to complete the OPM Form 1300 and electronically submit it to their school's nominating official. In addition, we estimate school nominating officials will need one-half hour to receive, review, and render a decision on the student's application for nomination into the PMF Program. The annual estimated burden for nominees is 8,000 hours and 2,000 hours for school nominating officials, for a total of 10,000 hours.

Comments are particularly invited on: whether this information is necessary for the proper performance of functions on the Office of Personnel Management, and whether it will have practical utility; whether our estimate of the public burden of this collection of information is accurate, and based on valid assumptions and methodology; and ways in which we can minimize the burden of the collection of information on those who are to respond, through the use of appropriate technological collection techniques or other forms of information technology.

For copies of this proposal, contact Mary Beth Smith-Toomey at (202) 606-8358, fax (202) 418-3251, or e-mail to mbtoomey@opm.gov. Please include your complete mailing address with your request.

DATES: Comments on this proposal for emergency review should be received within 5 calendar days from the date of this publication. We are requesting OMB to take action within 10 calendar days from the close of this Federal Register Notice on the request for emergency review.

Comments are encouraged and will be accepted for 60 days until October 18, 2005.

ADDRESSES: Send or deliver comments to: U.S. Office of Personnel Management, HRPS/CLCS/PMFP, ATTN: Rob Timmins, 1900 E Street, NW., Room 1425, Washington, DC 20415-9820, E-mail: pmf@opm.gov; and

Brenda Aguilar, OPM Desk Officer, Office of Management and Budget, Office of Information and Regulatory Affairs, New Executive Office Building, NW., Room 10235, Washington, DC 20503.

Office of Personnel Management.
Linda M. Springer,
Director.

[FR Doc. 05-16591 Filed 8-17-05; 1:29 pm]

BILLING CODE 6325-38-P